DEPARTMENT OF THE INTERIOR

Bureau of Land Management

[ES-960-1430-ET; MNES-017121]

Public Land Order No. 7693; Revocation of the Withdrawal Established by Executive Order Dated February 4, 1909; Minnesota

AGENCY: Bureau of Land Management, Interior.

ACTION: Public Land Order.

SUMMARY: This order revokes in its entirety the withdrawal established by an Executive Order as to 204.09 acres of public land withdrawn from surface entry and reserved for use by the United States Coast Guard for lighthouse purposes. No lighthouse was ever constructed and the United States Coast Guard has determined the reservation is no longer needed.

DATES: Effective Date: March 25, 2008.

FOR FURTHER INFORMATION CONTACT: Ida Doup, Bureau of Land Management-Eastern States, 7450 Boston Boulevard, Springfield, Virginia 22153, 703-440-1541.

SUPPLEMENTARY INFORMATION: This is a record-clearing action only as 194.91 acres have been conveyed out of Federal ownership and the remaining 9.18 acres remain withdrawn subject to the Shipstead-Newton-Nolan Act of July 10, 1930.

Order

By virtue of the authority vested in the Secretary of the Interior, by section 204 of the Federal Land Policy and Management Act of 1976, 43 U.S.C. 1714 (2000), it is ordered as follows:

The withdrawal established by Executive Order No. 1020 dated February 4, 1909, and any other order which reserved for lighthouse purposes the land, or any part thereof that is described below, is hereby revoked in its entirety:

4th Principal Meridian

T. 64 N., R. 7 E.,

Fractional sec 25, lots 1 and 2;

Fractional sec 26, lots 1 to 4, inclusive.

The area described contains 204.09 acres in Cook County.

Dated: March 14, 2008.
C. Stephen Allred,
Assistant Secretary—Land and Minerals Management.

[FR Doc. E8-5995 Filed 3-24-08; 8:45 am]

BILLING CODE 4310-GJ-P